DEPARTMENT OF COMMERCE

National Oceanic and Atmospheric Administration

50 CFR Part 648

[Docket No. 021122284-2323-02; I.D. 030304B]

Fisheries of the Northeastern United States; Summer Flounder; 2004 Specifications

AGENCY: National Marine Fisheries Service (NMFS), National Oceanic and Atmospheric Administration (NOAA), Commerce.

ACTION: Commercial quota restoration.

SUMMARY: NMFS publishes revised 2004 commercial quotas for summer flounder. This action is necessary to comply with the regulatory provision that requires the Administrator, Northeast Region, NMFS (Regional Administrator) to correct erroneous landings data that factored into an overage deduction. The intent of this action is to provide fishermen the opportunity to harvest the available quotas for the summer flounder fishery.

DATES: This document is effective from January 14, 2004, through December 31, 2004.

FOR FURTHER INFORMATION CONTACT: Sarah McLaughlin, Fishery Policy Analyst, (978) 281-9279, fax (978) 281-9135, e-mail sarah.mclaughlin@noaa.gov.

SUPPLEMENTARY INFORMATION:

Background

NMFS published final specifications and preliminary quota adjustments for the 2004 summer flounder, scup, and black sea bass fisheries on January 14, 2004 (69 FR 2074). The final rule included preliminary 2003 landings and 2004 quota adjustments. Section 648.100(d)(1)(ii) provides that, if the Regional Administrator determines during the fishing year that any part of an overage deduction was based on erroneous landings data that were in excess of actual landings for the period concerned, the Regional Administrator will restore the overage that was deducted in error to the appropriate summer flounder quota allocation and publish notification in the Federal Register announcing the restoration.

During a retrospective review of the landings data used to determine overharvest or underharvest of summer flounder in 2003, NMFS determined that, for some states, a portion of the 2002 landings were misattributed and counted as 2003 landings. The result of these findings made during the data review process is that the landings recorded for certain states (Massachusetts, Connecticut, Maryland, and North Carolina) exceeded the actual landings. Therefore, NMFS hereby restores quota for the 2004 fishing year to the appropriate state quotas as follows: Massachusetts--280 lb (127 kg); Connecticut--41,107 lb (18,646 kg); Maryland--44,077 lb (19,993 kg); and North Carolina--451,595 lb (204,842 kg). The 2004 commercial summer flounder adjusted quotas (less the amount set aside for research and as published in the January 14, 2004, final rule), the amounts being restored to the 2004 adjusted quotas, and the revised 2004 quotas (less the amount set aside for research), by state, are presented in the table below.

BILLING CODE 3510-22-S

Classification

This action is required by 50 CFR part 648 and is exempt from review under E.O. 12866.

Authority: 16 U.S.C. 1801 et seq.

Dated: March 4, 2004.
Bruce C. Morehead,
Acting Director, Office of Sustainable Fisheries, National Marine Fisheries Service.

[FR Doc. 04-5284 Filed 3-4-04; 3:50 pm]

BILLING CODE 3510-22-C